DEPARTMENT OF COMMERCE

Foreign-Trade Zones Board

[S-166-2014]

Foreign-Trade Zone 231—Stockton, California; Withdrawal of Application for Subzone Expansion; Medline Industries, Inc.; Lathrop, California

Notice is hereby given of the withdrawal of the application of the Port of Stockton, California, grantee of FTZ 231, requesting an additional site within Subzone 231A on behalf of Medline Industries, Inc., located in Lathrop, California. The application was docketed on December 15, 2014 (79 FR 75787, December 19, 2014).

The case has been closed without prejudice.

Dated: February 26, 2018.
Andrew McGilvray,
Executive Secretary.

[FR Doc. 2018-04171 Filed 2-28-18; 8:45 am]

BILLING CODE 3510-DS-P